DEPARTMENT OF LABOR

Employment and Training Administration

[TA-W-53,617]

Fleetguard, Inc., Neillsville West Plant, a Subsidiary of Cummins, Inc., Neillsville, Wisconsin; Notice of Negative Determination on Reconsideration

On March 5, 2004, the Department issued an Affirmative Determination Regarding Application for Reconsideration for the workers and former workers of the subject firm. The Department published the Notice in the Federal Register on March 16, 2004 (69 FR 12350).

The initial Trade Adjustment Assistance (TAA) petition was filed on behalf of workers producing exhaust systems at Fleetguard, Inc., Neillsville West Plant, a subsidiary of Cummins, Inc., Neillsville, Wisconsin. The petition was denied because the investigation revealed no sales or production declines and no shift of production during the relevant time period. The petitioner also alleged that the company was secondarily affected as a supplier to a TAA-certified customer, but the investigation found that was not the case.

In response to the petitioner's request for reconsideration, the Department conducted an investigation of events during the relevant time period (2001, 2002, and January-October 2003). The Department investigated company sales, production, employment and import levels as well as possible shifts of production abroad.

The investigation revealed that 2002 sales and production levels were greater than 2001 levels and that January-October 2003 sales and production levels were greater than January-October 2002 levels. Employment decreased in 2002 from 2001 levels and increased during January-October 2003 from January-October 2002 levels.

The company (including the subject facility, parent company, and affiliated facilities) did not import during 2001, 2002 and January-October 2003. There was no shift of production abroad during the relevant time period.

Conclusion

After reconsideration, I affirm the original notice of negative determination of eligibility to apply for worker adjustment assistance for workers and former workers of Fleetguard, Inc., Neillsville West Plant, a subsidiary of Cummins, Inc., Neillsville, Wisconsin.

Signed at Washington, DC, this 4th day of June, 2004.
Elliott S. Kushner,
Certifying Officer, Division of Trade Adjustment Assistance.

[FR Doc. 04-13387 Filed 6-14-04; 8:45 am]

BILLING CODE 4510-30-P